DEPARTMENT OF COMMERCE

National Institute of Standards and Technology

Proposed Information Collection; Comment Request; Research on Evacuating Persons With Mobility Impairments

AGENCY: National Institute of Standards and Technology (NIST), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before April 29, 2013.

ADDRESSES: Direct all written comments to Jennifer Jessup, Departmental Paperwork Clearance Officer, Department of Commerce, Room 6616, 14th and Constitution Avenue NW., Washington, DC 20230 (or via the Internet at jjessup@doc.gov).

FOR FURTHER INFORMATION CONTACT: Requests for additional information or copies of the information collection instrument and instructions should be directed to Kathryn Butler, 100 Bureau Drive, Mailstop 8662, Gaithersburg, MD 20899-8662, kathryn.butler@nist.gov, 301-975-6673.

SUPPLEMENTARY INFORMATION:

I. Abstract

NIST's research on elevators has primarily focused on the technical aspects of ensuring safe and reliable evacuation for the occupants of tall buildings. In addition, the International Code Council and the National Fire Protection Association provide requirements for the use of elevators for both occupant evacuation and fire fighter access into the building. However, there still is little understanding of how occupants use elevator systems during fire emergencies.

The focus of this research effort is two-fold: (1) To gain an understanding of how building occupants with mobility impairments currently evacuate multi-story buildings in the United States during fire emergencies, and (2) to learn about the concerns of persons with mobility impairments on using elevators during fire evacuations. This research aims to provide guidance to designers and building managers on aspects of fire evacuation that concern occupants with mobility impairments and on how to improve elevator design and usage during fire emergencies. The research includes four opportunities for participation:

(a) Building managers and designated safety personnel from a sample of four to ten existing and new federal high-rise buildings in the United States will be contacted to fill out a questionnaire requesting information on the emergency plans and procedures for the building, including how the buildings' evacuation plans incorporate the use of the existing elevator system to evacuate occupants with mobility impairments during fire emergencies. The building emergency plan will be requested from either the General Services Administration (GSA) or from the building manager.

(b) Occupants with mobility impairments in the buildings identified in part (a) will be asked for basic information on their mobility with regard to evacuation, previous evacuation experiences, and preferences on how to evacuate during a fire emergency. At the end of the questionnaire, they will be invited to participate in a one-on-one interview to discuss these issues in more detail.

(c) Occupants with mobility impairments identified in part (b) will participate in a one-on-one interview requesting more detailed information on previous evacuation experiences, awareness of emergency procedures, and views and preferences on using an elevator to evacuate during a fire emergency.

(d) Professionals involved with emergency planning (e.g., GSA, USDA, DHS, building emergency managers, researchers) and building occupants with mobility impairments, if willing, will be invited to participate in one of two focus groups. A preliminary analysis of the data resulting from parts (a) through (c) will be summarized in the form of two sets of potential plans for the use of elevators during fire evacuation by occupants with mobility impairments: One for existing buildings and one for new buildings. Members of the focus groups will review both of these potential plans. They will then participate in a discussion that will lead to guidance for designers and building managers on aspects of fire evacuation that concern occupants with mobility impairments and on how to improve elevator design and usage during fire emergencies. The order of the discussion of plans for existing and new buildings will be switched for the two focus groups to ensure that each plan receives the same amount of attention overall.

II. Method of Collection

The data from questionnaire (a) will be collected electronically. The questionnaire will be made available on a secured Web site and the link to this Web site will be distributed by NIST staff to building property managers and designated safety personnel.

The data from questionnaire (b) will be collected electronically. The questionnaire will be made available on a secured Web site and the link to this Web site will be distributed by NIST staff to occupants with mobility impairments in the buildings identified in part (a).

The data from the one-on-one interviews will be audiotaped if permission is granted or recorded in written notes if not. Participants will identify their interest in the questionnaire from part (b). Each interview will be conducted by a member of the NIST research team at the participant's workplace or by phone.

The data from the focus groups will be audio taped and recorded in written notes. Professionals involved with emergency planning (e.g., GSA, USDA, DHS, building emergency managers, researchers) and building occupants with mobility impairments, if willing, will be invited to participate.

III. Data

OMB Control Number: None.

Form Number: None.

Type of Review: Regular submission (new information collection).

Affected Public: Collections (a) and (d): Selected individuals, such as building managers and designated safety personnel, who are familiar with or in charge of developing emergency procedures for multi-story buildings in the United States, including both federal and private sector buildings; Collections (b) and (c): Selected high-rise building occupants with mobility impairments.

Estimated Number of Respondents: 180.

Estimated Time per Response: Surveys, 15 minutes; Interviews, 2 hours; and Focus groups, 2 hours.

Estimated Total Annual Burden Hours: 168.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: February 21, 2013.
Gwellnar Banks,
Management Analyst, Office of the Chief Information Officer.

[FR Doc. 2013-04491 Filed 2-26-13; 8:45 am]

BILLING CODE 3510-13-P